DEPARTMENT OF COMMERCE

National Oceanic and Atmospheric Administration

50 CFR Part 679

[Docket No. 030812199-3199-01; I.D. 111401B]

RIN 0648-AR46

Fisheries of the Exclusive Economic Zone off Alaska; Revisions to Observer Program in the North Pacific Groundfish Fisheries; Correction

AGENCY: National Marine Fisheries Service (NMFS), National Oceanic and Atmospheric Administration (NOAA), Commerce.

ACTION: Final rule; technical amendment.

SUMMARY: This document amends a December 30, 2002, final rule that implemented changes to regulations governing the American Fisheries Act (AFA). This final rule included revisions to the North Pacific Groundfish Observer Program (Observer Program). The action is necessary to correct an error in replacement text that occurred in the final rule.

DATES: Effective August 18, 2003.

FOR FURTHER INFORMATION CONTACT: Patsy A. Bearden, 907-586-7008.

SUPPLEMENTARY INFORMATION: A final rule implementing changes to regulations governing the Observer Program was published in the Federal Register on December 30, 2002 (67 FR 79692). Some of these changes related to the establishment of new observer requirements. The final rule inadvertently omitted two paragraphs from the list of paragraphs where “CDQ observer” was to be replaced by “level 2 observer.” These paragraphs are amended by this action.

Need for Correction

Two paragraphs were inadvertently omitted from the list of paragraphs where “CDQ observer” was to be replaced by “level 2 observer.” Paragraphs 679.50(c)(4)(v)(A) and (B) are amended by removing the reference to “CDQ observer” and adding in its place “level 2 observer”.

Classification

Pursuant to 5 U.S.C. 553(b)(B), the Assistant Administrator of Fisheries, NOAA (AA), finds good cause to waive prior notice and opportunity for public comment otherwise required by the section. NOAA finds that prior notice and comment are unnecessary as this rule has a non-substantive effect on the public. This rule corrects an error in a recent amendment to regulations and is necessary for consistency throughout the regulations. The rest of the regulations use the term “level 2 observer” instead of “CDQ observer.” This rule makes this word change in two places that were inadvertently omitted from the previous amendment. The public is unaffected by the correction. NOAA finds that because of the technical, non-substantive nature of the correction, there is no particular public interest in this final rule for which there is need for prior notice and comment.

The AA also finds good cause to waive the 30-day delay in the effective date of this action for same reasons stated above.

List of Subjects in 50 CFR Part 679

Alaska, Fisheries, Recordkeeping and reporting requirements.

Dated: August 12, 2003.
William T. Hogarth,
Assistant Administrator for Fisheries, National Marine Fisheries Service.

For the reasons set forth in the preamble, 50 CFR part 679 is amended as follows:

PART 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub, L, 106-554.

2. In § 679.50, paragraphs 679.50(c)(4)(v)(A) and (B) are correctly revised to read as follows:

§ 679.50 Groundfish Observer Program applicable through December 31, 2007.

* * * * *

(c) * * *

(4) * * *

(v) * * *

(A) Option 1. If the vessel operator selected Option 1 (as described at § 679.32(c)(2)(ii)(A)) for CDQ catch accounting, then at least one level 2 observer as described at paragraph (j)(1)(v)(D) of this section must be aboard the vessel.

(B) Option 2. If the vessel operator selected Option 2 (as described at § 679.32(c)(2)(ii)(B)) for CDQ catch accounting, then at least one lead level 2 observer as described at paragraph (j)(1)(v)(E) of this section must be aboard the vessel.

* * * * *

[FR Doc. 03-21047 Filed 8-15-03; 8:45 am]

BILLING CODE 3510-22-S